DEPARTMENT OF AGRICULTURE

Agricultural Marketing Service

[Doc. No. AMS-LP-18-0068]

Notice of Request for Extension of a Currently Approved Information Collection for Commodities Covered by the Livestock Mandatory Reporting Act of 1999

AGENCY: Agricultural Marketing Service, USDA.

ACTION: Notice and request for comments.

SUMMARY: In accordance with the Paperwork Reduction Act of 1995, this notice announces the Agricultural Marketing Service's (AMS) intention to request approval from the Office of Management and Budget (OMB) for an extension of the currently approved information collection used to compile and generate cattle, swine, lamb, boxed beef, and wholesale pork Market News reports under the Livestock Mandatory Reporting Act of 1999 (1999 Act) (OMB 0581-0186).

DATES: Comments received by April 1, 2019 will be considered.

Additional Information or Comments: Interested persons are invited to submit comments concerning this information collection document. Comments should be submitted online at www.regulations.gov or sent to Sam Jones-Ellard, Assistant to the Director; Livestock, Poultry, and Grain Market News Division; Livestock and Poultry Program; Agricultural Marketing Service, U.S. Department of Agriculture, 1400 Independence Ave. SW, Room 2619-S, STOP 0252; Washington, DC 20250-0252; Telephone (812) 240-0694; or email Samuel.Jones@usda.gov. All comments should reference the docket number (AMS-LP-18-0068), the date, and page number of this issue of the Federal Register. All comments received will be posted without change, including any personal information provided, online at www.regulations.gov and will be made available for public inspection at the above physical address during regular business hours.

FOR FURTHER INFORMATION CONTACT: Sam Jones-Ellard at the above physical address, by telephone (812) 240-0694, or by email at Samuel.Jones@usda.gov.

SUPPLEMENTARY INFORMATION:

Title: Livestock Mandatory Reporting Act of 1999.

OMB Number: 0581-0186.

Expiration Date of Approval: 07-31-2019.

Type of Request: Request for extension of a currently approved information collection.

Abstract: The 1999 Act was enacted into law on October 22, 1999, [Pub. L. 106-78; 113 Stat. 1188; 7 U.S.C. 1635-1636(i)] as an amendment to the Agricultural Marketing Act of 1946, as amended (7 U.S.C. 1621 et seq.). On April 2, 2001, the Agricultural Marketing Service (AMS); Livestock and Poultry Program (LP); Livestock, Poultry, and Grain Market News Division (LPGMN) implemented the Livestock Mandatory Reporting (LMR) program as required by the 1999 Act. The purpose was to establish a program of easily understood information regarding the marketing of cattle, swine, lambs, and livestock products; improve the price and supply reporting services of the United States Department of Agriculture (USDA); and encourage competition in the marketplace for livestock and livestock products. The LMR regulations (7 CFR part 59) set the requirements for certain packers and importers to submit purchase and sales information of livestock and livestock products to meet this purpose.

The statutory authority for the program lapsed on September 30, 2005. In October 2006, Congress passed the Livestock Mandatory Reporting Reauthorization Act (2006 Reauthorization Act) [Pub. L. 109-296]. The 2006 Reauthorization Act re-established the regulatory authority for the continued operation of LMR through September 30, 2010, and separated the reporting requirements for sows and boars from barrows and gilts, among other changes. On July 15, 2008, the LMR final rule became effective (73 FR 28606, May 16, 2008).

On September 28, 2010, Congress passed the Mandatory Price Reporting Act of 2010 (2010 Reauthorization Act) [Pub. L. 111-239]. The 2010 Reauthorization Act reauthorized LMR for an additional 5 years through September 30, 2015, and required the addition of wholesale pork through negotiated rulemaking. On January 7, 2013, the LMR final rule became effective (77 FR 50561, August 22, 2012).

The Agriculture Reauthorizations Act of 2015 (2015 Reauthorization Act) [Pub. L. 114-54], enacted on September 30, 2015, reauthorized the LMR program for an additional 5 years through September 30, 2020, and amended certain lamb and swine reporting requirements. For lamb, the definitions of a packer and importer were modified to lower the reporting thresholds of each, from a processing average of 75,000 lambs to 35,000 lambs, and from an import average of at least 2,500 metric tons of lamb meat products to an average of 1,000 metric tons of lamb meat. On May 31, 2016, a direct final rule to implement these reporting changes became effective (81 FR 10057, February 29, 2016). For swine, the 2015 Reauthorization Act added a definition and reporting requirements for negotiated formula and late day purchases. On October 11, 2016, a final rule became effective (81 FR 52969, August 11, 2016) to implement these changes as well as a lamb reporting change requested by industry stakeholders amending the term “packer-owned lambs” and requiring packers to report lambs owned by a packer for at least 28 days immediately before slaughter.

The reports generated by the 1999 Act are used by other Government agencies to evaluate market conditions and calculate price levels, including USDA's Economic Research Service and World Agricultural Outlook Board. Economists at most major agricultural colleges and universities use the reports to make short and long-term market projections. Also, the Government is a large purchaser of livestock related products. A system to monitor the collection and reporting of data therefore is needed.

In order to comply with the 1999 Act's goal of encouraging competition in the marketplace for livestock and livestock products, Section 251 of the Act directs USDA to make available to the public information and statistics obtained from, or submitted by, respondents covered by the Act in a manner that ensures that the confidentiality of the reporting entities is preserved. AMS is in the best position to provide this service.

Since the last information collection renewal, the AMS Livestock, Poultry, and Seed Program reorganized to form the AMS Livestock and Poultry Program. The forms associated with this information collection reflect this organizational change.

Estimate of Burden: Public reporting burden for this collection is estimated to average 0.16 hours per response.

Respondents: Business or other for-profit entities, individuals or households, farms, and the Federal Government.

Estimated Number of Respondents: 116 respondents.

Estimated Number of Responses: 135,356 responses.

Estimated Number of Responses per Respondent: 1,167 responses (rounded).

Estimated Total Annual Burden on Respondents: 21,712 hours (rounded).

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. All responses to this document will be summarized and included in the request for OMB approval. All comments will become a matter of public record.

Dated: January 26, 2019.
Bruce Summers,
Administrator, Agricultural Marketing Service.

[FR Doc. 2019-00548 Filed 1-30-19; 8:45 am]

BILLING CODE 3410-02-P